DEPARTMENT OF COMMERCE

International Trade Administration

AGENCY: International Trade Administration, Department of Commerce.

ACTION: Notice.

SUMMARY: The Department of Commerce invites U.S. companies to participate in the below listed overseas trade missions. For a more complete description of each trade mission, obtain a copy of the mission statement from the Project Officer indicated for each mission below. Recruitment and selection of private sector participants for these missions will be conducted according to the Statement of Policy Governing Department of Commerce Overseas Trade Missions dated March 3, 1997.

Information Technology & E-commerce Trade Mission to Southeast Asia Vietnam, Malaysia and the Philippines

July 31-August 9, 2001

Recruitment Closes on June 29, 2001.

For further information contact: Ms. Tu-Trang Phan, U.S. Department of Commerce. Telephone 202-482-0480; or e-Mail: Tu-Trang_Phan@ita.doc.gov

Textile Trade Mission to Mexico, Mexico City and Guadalajara

September 24-28, 2001

Recruitment closes on August 10, 2001.

For further information contact: Ms. Pamela Kirkland, U.S. Department of Commerce. Telephone 202-482-3587; or e-Mail: Pamela_Kirkland@ita.doc.gov

FOR FURTHER INFORMATION CONTACT: Mr. Thomas Nisbet, U.S. Department of Commerce. Telephone 202-482-5657, or e-Mail Tom_Nisbet@ita.doc.gov

Dated: June 1, 2001.
Thomas H. Nisbet,
Director, Promotion Planning and Support Division, Office of Export Promotion Coordination.

[FR Doc. 01-14358 Filed 6-6-01; 8:45 am]

BILLING CODE 3510-DR-U